DEPARTMENT OF ENERGY

Federal Energy Regulatory Commission

[Docket No. RP00-344-001]

Dominion Transmission, Inc.; Notice of Compliance Filing

Correction

In notice document 01-20341 appearing on page 42644, in the issue of Tuesday, August 14, 2001, make the follow correction:

On the same page, in the first column, the Docket No. should be as set forth above.

[FR Doc. C1-20341 Filed 8-31-01; 8:45 am]

BILLING CODE 1505-01-D

GENERAL SERVICES ADMINISTRATION

[OMB Control No. 3090-0007]

Submission for OMB Review; Comment Request Entitled Contractor's Qualifications and Financial Information

Correction

In notice document 01-19516 appearing on page 41029 in the issue of Monday, August 6, 2001, make the following correction:

In the second column, in the ACTION: section, “pubic” should read “public ”.

[FR Doc. C1-19516 Filed 8-31-01; 8:45 am]

BILLING CODE 1505-01-D

DEPARTMENT OF HEALTH AND HUMAN SERVICES

National Institute of Health

Public Health Service

Correction

In notice document 01-20190 beginning on page 42548 in the issue of Monday, August 13, 2001, make the following correction:

On the same page, in the third column, under the heading Request for Public Input, in paragraph (2), sixth line from the bottom, “September 27, 2001” should read “September 12, 2001”.

[FR Doc. C1-20190 Filed 8-31-01; 8:45 am]

BILLING CODE 1505-01-D

DEPARTMENT OF THE INTERIOR

Bureau of Indian Affairs

25 CFR Part 103

RIN 1076-AD73

Loan Guaranty, Insurance, and Interest Subsidy

Correction

In rule document 01-1249 beginning on page 3861, in the issue of Wednesday, January 17, 2001, make the following correction:

§ 103.25 [Corrected]

On page 3871, in the second column, under the heading Subpart D—Provisions Relating to Borrowers, in §103.25, in the first entry, “(b) A borrower” should read “(a) A borrower”.

[FR Doc. C1-1249 Filed 8-31-01; 8:45 am]

BILLING CODE 1505-01-D

NATIONAL CREDIT UNION ADMINISTRATION

12 CFR Part 749

Records Preservation Program

Correction

In rule document 01-19104 beginning on page 40578 in the issue of Friday August 3, 2001, make the following correction:

On page 40579, in the second column, the heading,

PART 749—RECORDS PRESERVATION PROGRAM AND RECORD

Retention Appendix

should read;

PART 749—RECORDS PRESERVATION PROGRAM AND RECORD RETENTION APPENDIX

[FR Doc. C1-19104 Filed 8-31-01; 8:45 am]

BILLING CODE 1505-01-D

SECURITY AND EXCHANGE COMMISSION

[Release No. IA-1960; 803-154]

Capital Guardian Trust Company, et al.; Notice of Application

August 7, 2001.

Correction

In notice document 01-20233 beginning on page 42570 in the issue of Monday, August 13, 2001, make the following correction:

On page 42570, in the second column, the Release No. should be as set forth above.

[FR Doc. C1-20233 Filed 8-31-01; 8:45 am]

BILLING CODE 1505-01-D

SECURITIES AND EXCHANGE COMMISSSION

[Release No. 34-44621; File No. SR-Amex-2001-23]

Self-Regulatory Organizations; Notice of Filing and Order Granting Accelerated Approval of Proposed Rule Change and Amendment Nos. 1 and 2 by the American Stock Exchange, LLC Relating to the Listing and Trading of Index-Linked Exchangeable Notes

July 30, 2001.

Correction

In notice document 01-19583 beginning on page 41064 in the issue of Monday, August 6, 2001, make the following correction:

On page 41064, in the second column, the Release No. should be as set forth above.

[FR Doc. C1-19583 Filed 8-31-01; 8:45 am]

BILLING CODE 1505-01-D

SECURITY AND EXCHANGE COMMISSION

[Release No. 34-44653; File No. SR-Phlx-2001-70]

Self-Regulatory Organizations; Notice of Filing and Immediate Effectiveness of Proposed Rule Change by the Philadelphia Stock Exchange, Inc. Extending the Pilot Program for Exchange Rule 98, Emergency Committee Until November 30, 2001

August 3, 2001.

Correction

In notice document 01-20767 beginning on page 43289 in the issue of Friday, August 17, 2001, make the following correction:

On page 43289, in the third column, the date should be as set forth above.

[FR Doc. C1-20767 Filed 8-31-01; 8:45 am]

BILLING CODE 1505-01-D

DEPARTMENT OF TRANSPORTATION

Federal Aviation Administration

14 CFR Parts 121 and 139

[Docket No. FAA-2000-7479; Notice No. 00-05]

RIN 2120-AG96

Certification of Airports; Correction

Correction

In proposed rule document 01-20518 beginning on page 42807 in the issue of Wednesday, August 15, 2001, make the following correction:

On page 42807, in the second column, in the third complete paragraph, in the last line, “§239.203(b)(65 FR 38673)” should read “§139.203(b)(65 FR 38673)”.

[FR Doc. C1-20518 Filed 8-31-01; 8:45 am]

BILLING CODE 1505-01-D